DEPARTMENT OF HEALTH AND HUMAN SERVICES

Substance Abuse and Mental Health Services Administration

Agency Information Collection Activities: Proposed Collection; Comment Request

In compliance with section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (301) 443-7978.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Substance Abuse Prevention and Treatment Block Grant—45 CFR part 96 (OMB No. 0930-0163; Extension, no change)—This rule provides guidance to States regarding the Substance Abuse Prevention and Treatment Block Grant legislation, including requirements regarding the sale or distribution of tobacco products to individuals under age eighteen. The rule implements the reporting and recordkeeping requirements of 42 U.S.C. 300x21-35 and 51-64 by specifying the content of the States' annual report on and application for block grant funds, including the annual conduct of random, unannounced inspections to ensure compliance with 42 U.S.C. 300x-26, related to sale or distribution of tobacco to individuals under age eighteen. The reporting burden hours will be counted towards the total burden for the Substance Abuse Prevention and Treatment Block Grant Application Format (OMB No. 0930-0080) and the Substance Abuse Treatment Block Grant Synar Report Format (OMB No. 0920-0222) for which separate approval is obtained. The total annual reporting and recordkeeping burden estimate is shown below:

45 CFR citation | Number of respondents | Responses/respondent | Hours/response | Total hour burden
Reporting Burden
Annual Report:
96.122(d) ¹ due date | 60 | 1 | 1 | 60
96.122(d) ² extension request | 60 | 1 | 1 | 60
96.122(f) | 60 | 1 | 152 | 9,120
96.130(e)(1-3) | 59 | 1 | 15 | 885
96.134(d) | 60 | 1 | 16 | 960
State Plan:
96.122(g) | 60 | 1 | 162 | 9,720
96.124(c)(1) | 60 | 1 | 40 | 2,400
96.127(b) | 60 | 1 | 8 | 480
96.130(e)(4,5) | 59 | 1 | 14 | 826
96.130(g) | 59 | 1 | 5 | 295
96.131(f) | 60 | 1 | 8 | 480
96.133(a) | 60 | 1 | 80 | 4,800
Waivers: ²
96.122(d) | 26 | 1 | 1 | 26
96.124(d) | 0 | 1 | 40 | 0
96.132(d) | 0 | 1 | 16 | 0
96.134(b) | 3 | 1 | 40 | 120
96.135(d) | 0 | 1 | 8 | 8
Total Reporting Burden ³ | 60 | 1 |  | 30,240
Recordkeeping Burden
96.129(a)(13) | 60 | 1 | 16 | 960
¹ This is a one-time burden associated with change of the due date for the annual report effective with the FY 2001 application.
² The number of respondents per year for the waiver requests is based on actual experience over the past several years.
³ All reporting burden associated with reporting on the sale or distribution of tobacco products to individuals under age eighteen is approved under OMB control number 0930-0222; reporting burden for the annual report, state plan, and waivers is approved under OMB control number 0930-0080.

Send comments to Nancy Pearce, SAMHSA Reports Clearance Officer, Room 16-105, Parklawn Building, 5600 Fishers Lane, Rockville, MD 20857. Written comments should be received within 60 days of this notice.

Dated: October 24, 2003.
Anna Marsh,
Acting Executive Officer, SAMHSA.

[FR Doc. 03-27326 Filed 10-29-03; 8:45 am]

BILLING CODE 4162-20-P